ENVIRONMENTAL PROTECTION AGENCY

[FRL-9241-5 ]

Science Advisory Board Staff Office; Notification of a Public Meeting of the Environmental Economics Advisory Committee Augmented for Valuing Mortality Risk Reductions

AGENCY: Environmental Protection Agency (EPA).

ACTION: Notice.

SUMMARY: The Environmental Protection Agency (EPA) Science Advisory Board (SAB) Staff Office announces a public meeting of the Environmental Economics Advisory Committee Augmented for Mortality Risk Valuation to conduct a review of EPA's White Paper “Valuing Mortality Risk Reduction for Environmental Policy” (December 10, 2010).

DATES: The public meeting will be held on Thursday, January 20, 2011 from 8:30 a.m. to 5 p.m. (Eastern Time) and Friday, January 21, 2011 from 8:30 a.m. to 12 p.m. (Eastern Time).

ADDRESSES: The public meeting will be held at the Madison Hotel, 1177 15th Street, NW., Washington, DC 20005.

FOR FURTHER INFORMATION CONTACT: Any member of the public who wants further information concerning the meeting may contact Dr. Holly Stallworth, Designated Federal Officer (DFO), EPA Science Advisory Board (1400R), U.S. Environmental Protection Agency, 1300 Pennsylvania Avenue, NW., Washington, DC 20460; via telephone/voice mail (202) 564-2073; fax (202) 565-2098; or e-mail at stallworth.holly@epa.gov. General information concerning the SAB can be found on the EPA Web site at http://www.epa.gov/sab.

SUPPLEMENTARY INFORMATION: Background: Pursuant to the Federal Advisory Committee Act (FACA), as amended, 5 U.S.C., App., notice is hereby given that the SAB Environmental Economics Advisory Committee (EEAC) Augmented for Mortality Risk Valuation will hold a public meeting to discuss the valuation of mortality risk reduction for regulatory analysis. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

The U.S. Environmental Protection Agency (EPA) uses a value of statistical life (VSL) to express the benefits of mortality risk reductions in monetary terms for use in benefit cost analyses of its rules and regulations. EPA has used the same central default value (adjusted for inflation) in its primary analyses since 1999 when the Agency updated its Guidelines for Preparing Economic Analyses (2000). Prior to the release of the Guidelines, EPA sought advice from the Science Advisory Board's Environmental Economics Advisory Committee (EEAC) on the appropriateness of this estimate and its derivation. In 2000, EPA also requested advice from the SAB EEAC on the appropriateness of making adjustments to VSL estimates to capture risk and population characteristics associated with fatal cancer risks. The SAB responded with the report, “An SAB Report on EPA's White Paper Valuing the Benefits of Fatal Cancer Risk Reduction” (EPA-SAB-EEAC-00-010), available on the SAB Web site at http://yosemite.epa.gov/sab/SABPRODUCT.NSF/41334524148BCCD6852571A700516498/$File/eeacf013.pdf.

In addition, as part of the recent process for updating its guidance on the conduct of benefit cost analysis, EPA embarked on a series of meetings with the SAB-EEAC on issues related to mortality risk valuation. In 2004, the SAB EEAC held a consultation to discuss the robustness of estimates from the mortality risk valuation literature. In 2006, the SAB EEAC reviewed an EPA paper on the application of meta-analysis techniques to deriving estimates for the value of mortality risk reduction as well as a paper on appropriate and available methods for valuing mortality risk reductions when affected populations have relatively short remaining life expectancy. The “SAB Advisory on EPA's Issues in Valuing Mortality Risk Reduction” (EPA-SAB-08-001) may be found at: http://yosemite.epa.gov/sab/SABPRODUCT.NSF/4128007E7876B8F0852573760058A978/$File/sab-08-001.pdf.

EPA's National Center for Environmental Economics has requested a review of a White Paper that highlights additional key topics related to the valuation of mortality risks reductions. On July 8, 2009 in 74 FR 32607-32608, the SAB Staff Office solicited nominations of experts to augment the EEAC. Thus, for the January 20-21, 2011 meeting, EEAC will be joined by additional experts to review EPA's White Paper. Key issues described in the white paper include:

—Terminology: Replacing the term “Value of Statistical Life,” which has often been misunderstood as a measure of the value of individual lives, with the term “Value of Mortality Risk Reductions” (VMR). This change in terminology should help to avoid some of the confusion surrounding the interpretation of the VSL. It would not affect the results of the analysis itself, but rather how the benefits of reduced risks are reported and described.

—Cancer Differential: Taking into account potential differences in how much people are willing to pay for reductions in their risks of dying from cancer relative to other causes when estimating the benefits of policies that reduce exposure to cancer-causing pollutants.

—Altruistic Effects: Taking into account potential differences in individuals' willingness to pay for “public” risk reductions that may affect many people (such as reductions of pollution to public drinking water) relative to their willingness to pay for “private” risk reductions that only affect the individual (such as choosing to install a water filter in one's home). Many of the published estimates of willingness to pay are for private risk reductions, but since EPA regulations generally result in “public” risk reductions, accounting for these differences when estimating benefits could be important.

Technical Contacts: Any questions concerning EPA's White Paper should be directed to Dr. Nathalie Simon, NCEE, at (202) 566-2347 or simon.nathalie@epa.gov.

Availability of Meeting Materials: EPA's White Paper may be found posted at http://yosemite.epa.gov/ee/epa/eerm.nsf/vwAN/EE-0563-1.pdf/$file/EE-0563-1.pdf. A meeting agenda, charge questions, a roster for the EEAC Augmented for Mortality Risk Valuation and other materials for the meeting will be placed on the SAB Web site at http://www.epa.gov/sab.

Procedures for Providing Public Input: Interested members of the public may submit relevant written or oral information for consideration on the topics included in this advisory activity. Oral Statements: To be placed on the public speaker list for the January 20-21, 2011 meeting, interested parties should notify Dr. Holly Stallworth, DFO, by e-mail no later than January 14, 2011. Individuals making oral statements will be limited to three minutes per speaker. Written Statements: Written statements for the meeting should be received in the SAB Staff Office by January 14, 2011 so that the information may be made available to the SAB Panel for its consideration prior to this meeting. Written statements should be supplied to the DFO via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: December 15, 2010.
Anthony F. Maciorowski,
Deputy Director, EPA Science Advisory Board Staff Office.

[FR Doc. 2010-31999 Filed 12-20-10; 8:45 am]

BILLING CODE 6560-50-P